DEPARTMENT OF LABOR

Office of the Secretary

Child Labor Education Initiative

AGENCY: Bureau of International Labor Affairs, U.S. Department of Labor.

ACTION: Notice of intent to publish solicitations for cooperative agreement applications.

SUMMARY: The U.S. Department of Labor (USDOL), Bureau of International Labor Affairs (ILAB), intents to award up to U.S. $17 million to organizations to develop and implement formal, non-formal, and vocational education programs as a means to combat exploitative child labor in Togo, Zambia, Peru, Bolivia, and Pakistan, and to encourage innovative approaches to increase access to basic education around the world (Education Innovations Grant). ILAB will publish solicitations for cooperative agreement applications from qualified organizations to implement programs that promote school attendance and provide educational opportunities for working children or children at risk of working. The programs should focus on innovative ways to address the many gaps and challenges to basic education found in the countries mentioned above.

DATES: The solicitations for cooperative agreement applications will be published in the Federal Register on or before September 30, 2002. Interested parties should regularly check the Federal Register for actual publishing dates of future solicitations and may submit an application up to 30 days after the date of publication.

ADDRESS: Once Solicitations are published in the Federal Register, applications must be delivered to: U.S. Department of Labor, Procurement Services Center, 200 Constitution Avenue, NW., Room N-5416, Attention: Lisa Harvey, Washington, DC 20210.

FOR FURTHER INFORMATION CONTACT: Lisa Harvey. E-mail address: harvey-lisa@dol.gov. All inquiries should make reference to the USDOL Child Labor Education Initiative—Solicitations for Cooperative Agreement Applications.

SUPPLEMENTARY INFORMATION: Since 1995 and as mandated by the U.S. Congress, USDOL has supported a worldwide technical assistance program implemented by the International Labor Organization's International Program on the Elimination of Child Labor (ILO/IPEC). USDOL contributions to date to ILO/IPEC have amounted to over $112 million, making the United States the program's largest donor and the leader in global efforts to combat child labor.

In USDOL's FY 2001 appropriations, in addition to $45 million in funds earmarked for ILO/IPEC, USDOL received $37 million for an Education Initiative that will fund programs that increase access to quality basic education in areas with a high incidence of abusive and exploitative child labor. The cooperative agreement(s) awarded under this solicitation will be funded by this new initiative.

USDOL's Education Initiative nurtures the development, health, safety, and enhanced future employability of children around the world by increasing access to basic education for children removed from child labor or at risk of entering it. Eliminating child labor will depend in part on improving access to, quality of, and relevance of education. Without improving educational quality and relevance, children withdrawn from child labor may not have viable alternatives and may return to work or resort to other hazardous, unhealthy means of subsistence.

The Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

The objective of the USDOL's involvement in increasing access to quality basic education is to complement existing efforts to eradicate the worst forms of child labor, to build on the achievements of and lessons learned from these efforts, to expand impact and build synergies, and to avoid duplication of resources and efforts.

Signed at Washington, DC, this 15th day of April, 2002.
Lawrence J. Kuss,
Grant Officer.

[FR Doc. 02-9516 Filed 4-17-02; 8:45 am]

BILLING CODE 4510-28-P